DEPARTMENT OF ENERGY

Federal Energy Regulatory Commission

Combined Notice of Filings #1

Take notice that the Commission received the following electric rate filings:

Docket Numbers: ER15-2028-009.

Applicants: Southwest Power Pool, Inc.

Description: Compliance filing: Compliance Filing in Response to Order issued in ER15-2028-005 (NIMECA) to be effective N/A.

Filed Date: 12/3/20.

Accession Number: 20201203-5046.

Comments Due: 5 p.m. ET 12/24/20.

Docket Numbers: ER19-1553-000.

Applicants: Southern California Edison Company.

Description: Annual Formula Transmission Rate Update Filing (TO2021) of Southern California Edison Company.

Filed Date: 11/20/20.

Accession Number: 20201120-5217.

Comments Due: 5 p.m. ET 12/11/20.

Docket Numbers: ER20-391-001; ER20-391-002; ER20-391-003.

Applicants: J. Aron & Company LLC.

Description: Supplement to Updated Market Power Analysis for the Northwest Region and Notices of Non-Material Change in Status of J. Aron & Company LLC.

Filed Date: 12/2/20.

Accession Number: 20201202-5281.

Comments Due: 5 p.m. ET 12/23/20.

Docket Numbers: ER20-2654-000.

Applicants: Clear Power LLC.

Description: Supplement to August 12, 2020 Clear Power LLC tariff filing.

Filed Date: 12/2/20.

Accession Number: 20201202-5278.

Comments Due: 5 p.m. ET 12/23/20.

Docket Numbers: ER20-3008-001.

Applicants: Southwest Power Pool, Inc.

Description: Tariff Amendment: Amended Filing—Revisions to Modify Schedule 1-A and Formula Rate Template to be effective 1/1/2021.

Filed Date: 12/3/20.

Accession Number: 20201203-5079.

Comments Due: 5 p.m. ET 12/14/20.

Docket Numbers: ER21-539-000.

Applicants: Southwest Power Pool, Inc.

Description: § 205(d) Rate Filing: 1895R9 Evergy Kansas Central, Inc. NITSA NOA—Wathena to be effective 9/1/2020.

Filed Date: 12/3/20.

Accession Number: 20201203-5009.

Comments Due: 5 p.m. ET 12/24/20.

Docket Numbers: ER21-540-000.

Applicants: Techren Solar III LLC.

Description: Baseline eTariff Filing: Certificate of Concurrence Filing to be effective 12/4/2020.

Filed Date: 12/3/20.

Accession Number: 20201203-5012.

Comments Due: 5 p.m. ET 12/24/20.

Docket Numbers: ER21-541-000.

Applicants: Techren Solar IV LLC.

Description: Baseline eTariff Filing: Certificate of Concurrence Filing to be effective 12/4/2020.

Filed Date: 12/3/20.

Accession Number: 20201203-5015.

Comments Due: 5 p.m. ET 12/24/20.

Docket Numbers: ER21-542-000.

Applicants: Techren Solar V LLC.

Description: Baseline eTariff Filing: Certificate of Concurrence Filing to be effective 12/4/2020.

Filed Date: 12/3/20.

Accession Number: 20201203-5017.

Comments Due: 5 p.m. ET 12/24/20.

Docket Numbers: ER21-543-000.

Applicants: Southwest Power Pool, Inc.

Description: § 205(d) Rate Filing: 2066R9 Evergy Kansas Central, Inc. NITSA NOA—Muscotah to be effective 9/1/2020.

Filed Date: 12/3/20.

Accession Number: 20201203-5022.

Comments Due: 5 p.m. ET 12/24/20.

Docket Numbers: ER21-544-000.

Applicants: Southwest Power Pool, Inc.

Description: § 205(d) Rate Filing: 2491R8 Evergy Kansas Central, Inc. NITSA NOA—Scranton to be effective 9/1/2020.

Filed Date: 12/3/20.

Accession Number: 20201203-5026.

Comments Due: 5 p.m. ET 12/24/20.

Docket Numbers: ER21-545-000.

Applicants: PJM Interconnection, L.L.C.

Description: Tariff Cancellation: Notice of Cancellation of ISA, Service Agreement No. 4756; Queue No. W4-005 to be effective 12/21/2020.

Filed Date: 12/3/20.

Accession Number: 20201203-5049.

Comments Due: 5 p.m. ET 12/24/20.

Docket Numbers: ER21-546-000.

Applicants: PJM Interconnection, L.L.C.

Description: Tariff Cancellation: Notice of Cancellation of ISA, SA No. 5744; Queue No. AF1-324 to be effective 12/3/2020.

Filed Date: 12/3/20.

Accession Number: 20201203-5050.

Comments Due: 5 p.m. ET 12/24/20.

Docket Numbers: ER21-547-000.

Applicants: Southwest Power Pool, Inc., Tri-State Generation and Transmission Association, Inc.

Description: § 205(d) Rate Filing: Tri-State Generation and Transmission Association, Inc. Formula Rate to be effective 2/1/2021.

Filed Date: 12/3/20.

Accession Number: 20201203-5052.

Comments Due: 5 p.m. ET 12/24/20.

Docket Numbers: ER21-548-000.

Applicants: PJM Interconnection, L.L.C.

Description: Tariff Cancellation: Notice of Cancellation of ISA, SA No. 5736; Queue No. AF1-326 to be effective 12/3/2020.

Filed Date: 12/3/20.

Accession Number: 20201203-5107.

Comments Due: 5 p.m. ET 12/24/20.

Docket Numbers: ER21-550-000.

Applicants: PJM Interconnection, L.L.C.

Description: Tariff Cancellation: Notice of Cancellation of ISA, SA No. 5738; Queue No. AF1-327 to be effective 12/3/2020.

Filed Date: 12/3/20.

Accession Number: 20201203-5109.

Comments Due: 5 p.m. ET 12/24/20.

Docket Numbers: ER21-551-000.

Applicants: Brunswick Cellulose LLC.

Description: Tariff Cancellation: Notice of Electric Tariff Cancellation to be effective 12/31/2020.

Filed Date: 12/3/20.

Accession Number: 20201203-5110.

Comments Due: 5 p.m. ET 12/24/20.

Docket Numbers: ER21-552-000.

Applicants: GP Big Island, LLC.

Description: Tariff Cancellation: Notice of Electric Tariff Cancellation to be effective 12/31/2020.

Filed Date: 12/3/20.

Accession Number: 20201203-5111.

Comments Due: 5 p.m. ET 12/24/20.

Docket Numbers: ER21-553-000.

Applicants: Georgia-Pacific Brewton LLC.

Description: Tariff Cancellation: Notice of Electric Tariff Cancellation to be effective 12/31/2020.

Filed Date: 12/3/20.

Accession Number: 20201203-5112.

Comments Due: 5 p.m. ET 12/24/20.

Docket Numbers: ER21-554-000.

Applicants: Ameren Illinois Company.

Description: § 205(d) Rate Filing: Reimbursement Agreement, RS 153, Prairie Power Shelbyville to be effective 2/2/2021.

Filed Date: 12/3/20

Accession Number: 20201203-5115.

Comments Due: 5 p.m. ET 12/24/20.

Docket Numbers: ER21-555-000.

Applicants: Georgia-Pacific Cedar Springs LLC.

Description: Tariff Cancellation: Notice of Electric Tariff Cancellation to be effective 12/31/2020.

Filed Date: 12/3/20.

Accession Number: 20201203-5117.

Comments Due: 5 p.m. ET 12/24/20.

Docket Numbers: ER21-556-000.

Applicants: Georgia-Pacific Consumer Operations LLC, Green Bay.

Description: Tariff Cancellation: Notice of Electric Tariff Cancellation to be effective 12/31/2020.

Filed Date: 12/3/20.

Accession Number: 20201203-5120.

Comments Due: 5 p.m. ET 12/24/20.

Docket Numbers: ER21-557-000.

Applicants: Georgia-Pacific Monticello LLC.

Description: Tariff Cancellation: Notice of Electric Tariff Cancellation to be effective 12/31/2020.

Filed Date: 12/3/20.

Accession Number: 20201203-5122.

Comments Due: 5 p.m. ET 12/24/20.

Docket Numbers: ER21-558-000.

Applicants: Georgia-Pacific Consumer Operations LLC, Green Bay.

Description: Tariff Cancellation: Notice of Electric Tariff Cancellation to be effective 12/31/2020.

Filed Date: 12/3/20.

Accession Number: 20201203-5131.

Comments Due: 5 p.m. ET 12/24/20.

Docket Numbers: ER21-559-000.

Applicants: Georgia-Pacific Consumer Operations LLC, Green Bay.

Description: Tariff Cancellation: Notice of Electric Tariff Cancellation to be effective 12/31/2020.

Filed Date: 12/3/20.

Accession Number: 20201203-5132.

Comments Due: 5 p.m. ET 12/24/20.

Docket Numbers: ER21-560-000.

Applicants: Georgia-Pacific Consumer Operations LLC, Green Bay.

Description: Tariff Cancellation: Notice of Electric Tariff Cancellation to be effective 12/31/2020.

Filed Date: 12/3/20.

Accession Number: 20201203-5134.

Comments Due: 5 p.m. ET 12/24/20.

The filings are accessible in the Commission's eLibrary system (https://elibrary.ferc.gov/idmws/search/fercgensearch.asp) by querying the docket number.

Any person desiring to intervene or protest in any of the above proceedings must file in accordance with Rules 211 and 214 of the Commission's Regulations (18 CFR 385.211 and 385.214) on or before 5:00 p.m. Eastern time on the specified comment date. Protests may be considered, but intervention is necessary to become a party to the proceeding.

eFiling is encouraged. More detailed information relating to filing requirements, interventions, protests, service, and qualifying facilities filings can be found at: http://www.ferc.gov/docs-filing/efiling/filing-req.pdf. For other information, call (866) 208-3676 (toll free). For TTY, call (202) 502-8659.

Dated: December 3, 2020.
Kimberly D. Bose,
Secretary.

[FR Doc. 2020-27036 Filed 12-8-20; 8:45 am]

BILLING CODE 6717-01-P